DEPARTMENT OF HEALTH AND HUMAN SERVICES

Indian Health Service

List of Recipients of Indian Health Scholarships Under the Indian Health Scholarship Program

The regulations governing Indian Health Care Improvement Act Programs (Pub. L. 94-437) provide at 42 CFR 36.334 that the Indian Health Service shall publish annually in the Federal Register a list of recipients of Indian Health Scholarships, including the name of each recipient, school and tribal affiliation, if applicable. These scholarships were awarded under the authority of Sections 103 and 104 of the Indian Health Care Improvement Act, 25 U.S.C. 1613-1613a, as amended by the Indian Health Care Amendments of 1988, Public Law 100-713.

The following is a list of Indian Health Scholarship Recipients funded under sections 103 and 104 for Fiscal Year 2003:

Abeita, Steven John, University of New Mexico-Albuquerque, Pueblo of Isleta, New Mexico

Acothley, Regina, University of New Mexico-Albuquerque, Navajo Nation, Arizona, New Mexico, & Utah

Adakai, Tamelyn Blythe, Arizona State University, Navajo Nation, Arizona, New Mexico, & Utah

Adams Moses, Cynthia Regina, Langston University, Muscogee (Creek) Nation, Oklahoma

Albers, Travis Alan, University of Maryland, Turtle Mountain Band of Chippewa Indians of North Dakota

Alcorn, Winter Dawn, Rogers State College, Cherokee Nation, Oklahoma

Alden-Littlelight, Roanne Gail, Pacific University College, Crow Tribe of Montana

Allery, Lonnie William, University of North Dakota, Turtle Mountain Band of Chippewa Indians of North Dakota

Allery, Rhea Neachet, University of North Dakota, Turtle Mountain Band of Chippewa Indians of North Dakota

Allick, Shannon Lynn, Minot State University, Turtle Mountain Band of Chippewa Indians of North Dakota

Allison, Amanda, University of New Mexico-Albuquerque, Navajo Nation, Arizona, New Mexico, & Utah

Allison, Carol Ann, Montana State University-Northern, Turtle Mountain Band of Chippewa Indians of North Dakota

Allison, Rochelle Jade, University of New Mexico-Albuquerque, Navajo Nation of Arizona, New Mexico, & Utah

Allison, Roselinda, University of Phoenix, Navajo Nation, Arizona, New Mexico, & Utah

Allison-Quick, Eunice Mary, University of Oregon, Blackfeet Tribe of the Blackfeet Indian Reservation of Montana

Anderson, Ella Mae, Gateway Community College, Navajo Nation, Arizona, New Mexico & Utah

Andis, Letetia Lynn, Bacone College, Cherokee Nation, Oklahoma

Antonio, Amber L., University of New Mexico-Albuquerque, Pueblo of Acoma, New Mexico

Armijo, Heather Denise, New Mexico State University, Pueblo of Jemez, New Mexico

Arnold, Carly Ellen, Northern Arizona University, Navajo Nation, Arizona, New Mexico & Utah

Arnold, Delphine, University of New Mexico, Navajo Nation, Arizona, New Mexico & Utah

Arredondo, LaDonna Leann, Southwestern Oklahoma State University, Choctaw Nation of Oklahoma

Arviso, Tennille Raye, Northern Arizona University, Navajo Nation, Arizona, New Mexico & Utah

Ashley, Natalie Lynn, Arizona State University, Navajo Nation, Arizona, New Mexico & Utah

Atene, Kathleen Cheryl, Northern Arizona University, Navajo Nation, Arizona, New Mexico & Utah

Aubrey, Kathy Ann, Montana State University-Great Falls, Blackfeet Tribe of the Blackfeet Indian Reservation of Montana

Avery, Nancy Dora, Northern Arizona University, Navajo Nation, Arizona, New Mexico & Utah

Azure, Alissa Joy, University of North Dakota, Turtle Mountain Band of Chippewa Indians of North Dakota

Babb, Tiana Marie, University of Oklahoma, Health Science Center, Kiowa Indian Tribe of Oklahoma

Babcock, Amy Roxanne, Tulsa City Area Voc Tech School, Cherokee Nation, Oklahoma

Bain, Edlin David, University of New Mexico College of Pharmacy, Navajo Nation, Arizona, New Mexico & Utah

Baker, Jennifer Lee, Oklahoma State University, Cherokee Nation, Oklahoma

Barbone, Michelle Dawn, Arizona State University, Navajo Nation, Arizona, New Mexico, & Utah

Barnes-Enloe, Rebecca Anne, Northeastern State University, Cherokee Nation, Oklahoma

Barnett, Stephanie Deann, University of Tulsa, Cherokee Nation, Oklahoma

Barry, Christina Jean, University of South Alabama, Central Council of Tlingit & Haida Indian Tribes

Barse, Allison Joy, Kansas Newman College, Kickapoo Tribe of Oklahoma

Bartlett, Lyndell Joy, Montana State University-Bozeman, Cheyenne River Sioux Tribe of the Cheyenne River Reservation, South Dakota

Bates, Winifred Stewart, University of New Mexico, Navajo Nation, Arizona, New Mexico & Utah

Battese, Kelly Joseph, University of Kansas School of Pharmacy, Miami Tribe of Oklahoma

Baxter, Pamela Jean, University of Washington, Choctaw Nation of Oklahoma

Beals, Bryan-James, Oklahoma State University, Muscogee (Creek) Nation, Oklahoma

Bear-Pevehouse, Sallie Ann, University of Oklahoma, Health Science Center, Muscogee (Creek) Nation, Oklahoma

Becenti, Elton, New Mexico State University, Navajo Nation, Arizona, New Mexico, & Utah

Becenti, Shawnadine Karen, University of New Mexico-Albuquerque, Navajo Nation, Arizona, New Mexico, & Utah

Bedoni, Theda, Scottsdale Community College, Navajo Nation, Arizona, New Mexico, & Utah

Begay, Carlyle-Wilmer, University of Arizona, Navajo Nation, Arizona, New Mexico, & Utah

Begay, Lisa Danelle, University of New Mexico, Navajo Nation, Arizona, New Mexico, & Utah

Begay, Lorena Rose, La Sierra University, Navajo Nation, Arizona, New Mexico, & Utah

Begay, Monica Calley, University of New Mexico-Albuquerque, Navajo Nation, Arizona, New Mexico, & Utah

Begay, Sheena Maria, New Mexico State University, Navajo Nation, Arizona, New Mexico, & Utah

Begay, Velma Mae, University of New Mexico-Albuquerque, Navajo Nation, Arizona, New Mexico, & Utah

Begaye, Julianna, University of New Mexico-Albuquerque, Navajo Nation, Arizona, New Mexico, & Utah

Begaye, Sheila Renee, University of New Mexico, Navajo Nation, Arizona, New Mexico, & Utah

Begody, Winifred Belinda, Northern Arizona University, Navajo Nation, Arizona, New Mexico, & Utah

Behymer, Virginia May, University of Alaska-Anchorage, Aleut, Alaska

Belcourt, Jaime Ruth, Montana State University School of Nursing, Three Affiliated Tribes of the Fort Berthold Reservation, North Dakota

Bell, Sarah Rose, University of North Dakota, Three Affiliated Tribes of the Fort Berthold Reservation, North Dakota

Ben, Lynndella, Arizona State University, Navajo Nation, Arizona, New Mexico, & Utah

Benally, Jolene, Arizona Western College, Navajo Nation, Arizona, New Mexico, & Utah

Benally, Yolanda Jean, New Mexico State University, Navajo Nation, Arizona, New Mexico, & Utah

Benally-Thompson, Bret R., University of Minnesota-Duluth, Minnesota Chippewa Tribe (White Earth Band)

Bendure, Rodney David, Northeastern State University, Cherokee Nation, Oklahoma

Berry, Rebekah Sue, University of Central Oklahoma, Choctaw Nation of Oklahoma

Berryman, Mykala Sara, University of Oklahoma, Choctaw Nation of Oklahoma

Beyale, Shannon Marie, University of Arizona, Navajo Nation, Arizona, New Mexico, & Utah

Bigback, Jennifer Lee, Ohio State University College of Medicine, Northern Cheyenne Tribe of the Northern Cheyenne Indian Reservation, Montana

Bighorn, Mary Johanna, University of North Dakota, Assiniboine & Sioux Tribes of the Fort Peck Indian Reservation, Montana

Bighorse, Amanda Nicole, Northeastern State University, Cherokee Nation, Oklahoma

Bill, Miranda Lee, Cal State University Chico, Cortina Indian Rancheria of Wintun Indians of California

Billy, Carol Y., Weber State University, Navajo Nation, Arizona, New Mexico, & Utah

Billy, Larissia Jenny, University of Alaska, Blackfeet Tribe of the Blackfeet Indian Reservation of Montana

Bingham, Zachary Scott, University of New Mexico-Albuquerque, Cherokee Nation, Oklahoma

Bishop, Jennifer Lynn, University of Tulsa, Seneca-Cayuga Tribe of Oklahoma

Black, Deborah Helen Pierce, Johns Hopkins University, Sisseton-Wahpeton Sioux Tribe of the Lake Traverse Reservation, South Dakota

Blevins, Regina Kay, North Dakota State University, Choctaw Nation of Oklahoma

Blindman, Charlene Sue, Arizona State University, Navajo Nation, Arizona, New Mexico, & Utah

Blue Arm, Noelle E., University of North Dakota, Cheyenne River Sioux Tribe of the Cheyenne River Reservation, South Dakota

Boatwright, Melinda Lea, University of Oklahoma Dental School, Choctaw Nation of Oklahoma

Bointy, Michele Marie, University of Kansas, School of Social Welfare, Assiniboine & Sioux Tribes of The Fort Peck Indian Reservation, Montana

Boling, Adella Krista Marie, University of Alaska, Kenaitze Indian Tribe

Bowles, Charles Justin, Oklahoma State University, Citizen Potawatomi Nation of Oklahoma

Boyd, Cassandra Iva, University of New Mexico-Albuquerque, Navajo Nation, Arizona, New Mexico, & Utah

Bradfield, Lavone Glema, University of North Dakota, Standing Rock Sioux Tribe of North & South Dakota

Brady, Meagan Leigh, University of Oklahoma-Norman, Comanche Nation, Oklahoma

Branham-Williams, Jamie Kathleen, University of Iowa Dental School, Cherokee Nation, Oklahoma

Bressman, Rebecca Rae, Portland Community College, Citizen Potawatomi Nation, Oklahoma

Brewster, Sarah Kate, Oklahoma State University, Muscogee (Creek) Nation, Oklahoma

Briggs, Misty Elaine, University of Oklahoma Dental School, Cherokee Nation, Oklahoma

Brinson, Timothy James, East Central University, Citizen Potawatomi Nation, Oklahoma

Brockelman, Cassandra May, Southwestern Oklahoma State University, Seminole Nation of Oklahoma

Brooks, Lisa Michelle, University of Maryland, Oglala Sioux Tribe of the Pine Ridge Reservation, South Dakota

Brooks-Dugger, Shelly Beth, Southwest Texas State University, Cherokee Nation, Oklahoma

Brorby, Misty Dawn, University of North Dakota, Turtle Mountain Band of Chippewa Indians of North Dakota

Brown, Amanda Susan, Montana State University-Billings, Assiniboine & Sioux Tribes of the Fort Peck Indian Reservation, Montana

Brown, Christina Ann, University of North Dakota, Paiute-Shoshone Indians of the Bishop Community of the Bishop Colony, California

Brown, Renaye Denise, University of New Mexico, Navajo Nation, Arizona, New Mexico, & Utah

Bryant, Idella Marie, Midwestern University, Navajo Nation, Arizona, New Mexico, & Utah

Bryant, Joseph Preston, Southwestern Oklahoma State University, Cherokee Nation, Oklahoma

Buenting, Lisa Lynette, Loma Linda University, Mesa Grande Band of Diegueno Mission Indians of the Mesa Grande Reservation, California

Bull, Lois Ann, University of North Dakota, Three Affiliated Tribes of the Fort Berthold Reservation, North Dakota

Burbank, Lenora Michele, Northern Arizona University, Navajo Nation, Arizona, New Mexico, & Utah

Burnside, Clint Ed, University of Arizona, Navajo Nation, Arizona, New Mexico, & Utah

Burr-Selle, Kandi Kay, University of North Dakota, Three Affiliated Tribes of the Fort Berthold Reservation, North Dakota

Burris, Brandon Christopher, University of Texas-Austin, Caddo Indian Tribe of Oklahoma

Burton, Amber Joy, University of Alaska School of Nursing, Alaska Native

Busch, Richard Eugene, University of Alaska-Fairbanks, Alaska Native

Butte, Jennifer Lynn, Glendale Community College, Navajo Nation, Arizona, New Mexico, & Utah

Byrd, Alpheus Lee, Carl Albert State College, Cherokee Nation, Oklahoma

Cain, Melanie Joy, Oklahoma State University, Pueblo of Santa Clara, New Mexico

Calvin, Shawn Allen, University of Oklahoma, Health Science Center, Choctaw Nation of Oklahoma

Calvin-Salyer, Amber Lorine, University of North Texas, Choctaw Nation of Oklahoma

Campbell, Jamie Renae, University of Oklahoma Dental School, Muscogee (Creek) Nation, Oklahoma

Carey, Amanda Kay, University of Oklahoma, Cherokee Nation, Oklahoma

Carter, Jason Daniel, University of Oklahoma, Cherokee Nation, Oklahoma

Carter, Nani Danielle, University of Oklahoma, Cherokee Nation, Oklahoma

Carver, Sharon Kay, Rogers State College, Cherokee Nation, Oklahoma

Cassador, Reyna Rose, San Juan Community College, Jicarilla Apache Nation, New Mexico

Cassutt, Robyn Amonda, Dakota Wesleyan, Central Council of Tlingit & Haida Indian Tribes

Cavanaugh, Casey Lynne, Idaho State University, Shoshone-Paiute Tribes of the Duck Valley Reservation, Nevada

Chalakee, Tara Nicole, Bacone College, Muscogee (Creek) Nation, Oklahoma

Champ, Jonalena, University of Houston, Crow Tribe of Montana

Charette, Nicole Lynn, University of North Dakota, Turtle Mountain Band of Chippewa Indians of North Dakota

Charles, Vanessa Rae, Fort Lewis College, Navajo Nation, Arizona, New Mexico, & Utah

Chastain, Brian Gene, University of Oklahoma Dental School, Muscogee (Creek) Nation, Oklahoma

Childress, Michelle Josett, University of Central Oklahoma, Seminole Nation of Oklahoma

Chimoni, Reinette J., University of New Mexico-Albuquerque, Zuni Tribe of the Zuni Reservation, New Mexico

Clah, Melinda, Northern Arizona University, Navajo Nation, Arizona, New Mexico, & Utah

Clark, Ernestine, University of New Mexico-Gallup, Navajo Nation, Arizona, New Mexico, & Utah

Clark, Jayne, Northern Arizona University, Navajo Nation, Arizona, New Mexico, & Utah

Clark, Kari Rose, Arizona State University, Navajo Nation, Arizona, New Mexico, & Utah

Clasen, Tischa Lee, Butler County Community College, Cherokee Nation, Oklahoma

Clauschee, Reginald, Pima Community College, Navajo Nation, Arizona, New Mexico, & Utah

Clauschee, Susan Francine, Pima Community College, Navajo Nation, Arizona, New Mexico, & Utah

Clown, Delmar M., United Tribes Technical College, Cheyenne River Sioux Tribe of the Cheyenne River Reservation, South Dakota

Cochran, Suzanne, Montana State University-Northern, Fort Belknap Indian Community of the Fort Belknap Reservation of Montana

Colbert, Alexandria Naomii, University of Oklahoma, Chickasaw Nation, Oklahoma

Coleman-Hack, Kristi Lynn, Southwestern Oklahoma State University, Choctaw Nation of Oklahoma

Cooeyate, Erin Quin, University of New Mexico-Gallup, Zuni Tribe of the Zuni Reservation, New Mexico

Cook, Elizabeth Jane, Southeastern Oklahoma State University, Choctaw Nation of Oklahoma

Cook, Michael Gerald, University of North Dakota, Turtle Mountain Band of Chippewa Indians of North Dakota

Cooper, April Deann, University of Central Arkansas, Cherokee Nation, Oklahoma

Couch, Ashley Ariel, Northeastern State University, Cherokee Nation, Oklahoma

Coulter, Daniel Lee, Creighton University School of Medicine, Citizen Potawatomi Nation, Oklahoma

Cox, Elena Heath, University of Wisconsin, Stockbridge Munsee Community, Wisconsin

Craig, Tonya, University of New Mexico, Navajo Nation, Arizona, New Mexico, & Utah

Cremer, Paul Clay, Harvard Medical School, Choctaw Nation of Oklahoma

Cribbs, Carolyn Suze, Sonoma State University, Cherokee Nation, Oklahoma

Croff, Heather Marie, Salish Kootenai College, Blackfeet Tribe of the Blackfeet Indian Reservation of Montana

Croley, Amanda Jo, University of Oklahoma, Cherokee Nation, Oklahoma

Cross, Bryan Von, University of Oklahoma, Cherokee Nation, Oklahoma

Cruz, Leeann Katri, New Mexico State University, Pueblo of Acoma, New Mexico

Cullen Carroll, Shanna Marie, Alliant International University, Osage Tribe, Oklahoma

Curley, Christina, Northern Arizona University, Navajo Nation, Arizona, New Mexico, & Utah

Curley, Marsha Jean, Dixie State College of Utah, Navajo Nation, Arizona, New Mexico, & Utah

Dailey, Samuel, University of Alabama-Birmingham, Navajo Nation, Arizona, New Mexico, & Utah

Damon, Dezbaa Altaalkii, Arizona School of Dentistry, Navajo Nation, Arizona, New Mexico, & Utah

Davis, Alona, University of North Dakota, Turtle Mountain Band of Chippewa Indians of North Dakota

Davis, Brandy Darlene, Western Carolina University, Eastern Band of Cherokee Indians of North Carolina

Davis, Heather Rae, University of North Dakota, Turtle Mountain Band of Chippewa Indians of North Dakota

Davis, Jason Russell, Oregon State University, Chickasaw Nation, Oklahoma

Day, Autumn Ann, Cornell University, Minnesota Chippewa Tribe, Minnesota (Leech Lake Band)

Decker—Walks Over Ice, Amber Victoria, Rocky Mountain College, Confederated Salish & Kootenai of the Flathead Reservation, Montana

Dedam, Jean-Paul Henri, Dartmouth Medical School, Aroostook Band of Micmac Indians of Maine

Dele, Lessina, Midwestern University, Navajo Nation, Arizona, New Mexico, & Utah

Delmar, Marjorie, Northern Arizona University, Navajo Nation, Arizona, New Mexico, & Utah

Deroche, Elisabeth Louise, Central Washington University, Blackfeet Tribe of the Blackfeet Indian Reservation of Montana

Desautel, Alice Junee Lu, Wenatchee Valley College, Confederated Tribes of the Colville Reservation, Washington

Dixon, Christian Brooke, University of Oklahoma, Cherokee Nation, Oklahoma

Dixon, Damon Brian, University of North Dakota, Hopi Tribe of Arizona

Dixon, Malia K., University of New Mexico-Albuquerque, Navajo Nation, Arizona, New Mexico, & Utah

Dominguez, Lorrie Ann, Northern Arizona University, Navajo Nation, Arizona, New Mexico, & Utah

Draper, Melanie Brooke, University of Alaska School of Nursing, Cherokee Nation, Oklahoma

Dugan, Carysa Malaret, Arizona School of Health Sciences, Nez Perce Tribe of Idaho

Dunlap, Erin Lee, University of Oklahoma, Cherokee Nation, Oklahoma

Earley, Mary Margaret, University of Tulsa, Cherokee Nation, Oklahoma

Eddy, Patricia Ann, Northland Pioneer College, Navajo Nation, Arizona, New Mexico, & Utah

Edwards, Ralph Casey, University of Oklahoma, Health Science Center, Cherokee Nation, Oklahoma

Ekamrak, Joyce Anna, University of Alaska-Anchorage, Akiachak Native Community

Elkhair-Brown, Michelle Lianne, Johnson County Community College, Muscogee (Creek) Nation, Oklahoma

Ellis, Scott Anthony, Oklahoma City University, Cherokee Nation, Oklahoma

Elmore, Amber Dawn, Northeastern State University, Chickasaw Nation, Oklahoma

Emerson, Janice Odette, University of Oklahoma, Health Science Center, Kiowa Indian Tribe of Oklahoma

Emerson, Karen, University of New Mexico, Navajo Nation, Arizona, New Mexico, & Utah

Empey, Erica Amanda, University of Portland, Confederated Tribes of the Grand Ronde Community of Oregon

Epaloose, Cassie, Pima Community College, Zuni Tribe of the Zuni Reservation, New Mexico

Eriacho, Margaret Alisha, University of New Mexico, College of Pharmacy, Zuni Tribe of the Zuni Reservation, New Mexico

Erickson, Janet Leigh, Montana State University-Northern, Three Affiliated Tribes of the Fort Berthold Reservation, North Dakota

Etsitty, Marlene J., University of New Mexico, Navajo Nation, Arizona, New Mexico, & Utah

Eubanks, Andrea Jill, University of New Mexico, College of Pharmacy, Cherokee Nation, Oklahoma

Eversole, Maryn, University of New Mexico-Albuquerque, Navajo Nation, Arizona, New Mexico, & Utah

Fairbanks, Mary Elizabeth, University of Minnesota, Minnesota Chippewa Tribe, Minnesota

Feather, Sharon Ann, Cankdeska Cikana Community College, Spirit Lake Tribe, North Dakota

Feliz, Candelaria Cynthia, University of North Dakota, Navajo Nation, Arizona, New Mexico, & Utah

Fence, Heather Katherine, Angelo State University, Cherokee Nation, Oklahoma

Ferris-Lane, Dana Faye, College of the Redwoods, Hoopa Valley Tribe, California

Fetzer, John Ward, North Dakota State University, Minnesota Chippewa Tribe, Minnesota, (White Earth Band)

Finkbonner, Miriam Ann, North Dakota State University, Lummi Tribe of the Lummi Reservation, Washington

Fish, Renita Lashell, University of Oklahoma, Health Science Center, Muscogee (Creek) Nation, Oklahoma

Fisher, Joe Keith, University of New Mexico, College of Pharmacy, Choctaw Nation of Oklahoma

Fishinghawk, Bobbi Genevieve, University of Kansas, School of Medicine, Cherokee Nation, Oklahoma

Foster, Melvin Dale, University of New Mexico-Albuquerque, Navajo Nation, Arizona, New Mexico, & Utah

Franklin, Richard Arnold, University of Missouri, Cherokee Nation, Oklahoma

Frankovic, Adam Matthew, Central Washington University, Cherokee Nation, Oklahoma

Fredy, Jefferson, University of New Mexico, College of Pharmacy, Navajo Nation, Arizona, New Mexico, & Utah

Freeland-Sam, Veronica Marie, Northern Arizona University, Navajo Nation, Arizona, New Mexico, & Utah

French, Zachary Ashton, University of Oklahoma, Cherokee Nation, Oklahoma

Friede, Priscilla Jenee, Montana State University-Northern, Chippewa-Cree Indians of the Rocky Boy's Reservation, Montana

Frizzell, Felicia Yelena, Loyola College, Mescalero Apache Tribe of the Mescalero Reservation, New Mexico

Gamble-Sampson, Wanda, Northern Arizona University, Navajo Nation, Arizona, New Mexico, & Utah

Gardner, Angela Danita, Rogers State College, Cherokee Nation, Oklahoma

Gardner, Jaquita Yvonne, Connors State College, Cherokee Nation, Oklahoma

Garner, Laquita Jo, Great Plains Technology, Mississippi Band of Choctaw Indians, Mississippi

Gerry, Jon Michael, Stanford University, Cheyenne River Sioux Tribe of the Cheyenne River Reservation, South Dakota

Gerry, Ryan Richard, Harvard Medical School, Cheyenne River Sioux Tribe of the Cheyenne River Reservation, South Dakota

Giles, Erin Ayn, Southern College of Optometry, Cherokee Nation, Oklahoma

Girty, Logan Ellis, University of Oklahoma, Caddo Indian Tribe of Oklahoma

Glass, Kerri Lynn, Rose State College, Muscogee (Creek) Nation, Oklahoma

Glasses, Devin Garrick, Arizona School of Health Sciences, Navajo Nation, Arizona, New Mexico, & Utah

Gonzales, Nicolle Lenn, University of New Mexico-Albuquerque, Navajo Nation, Arizona, New Mexico, & Utah

Gorman, Emmeline Paula, Mesa Community College, Navajo Nation, Arizona, New Mexico, & Utah

Gourneau, Erica Renee, University of North Dakota, Turtle Mountain Band of Chippewa Indians of North Dakota

Granger Nez, Sharon, Coconino County Community College, Navajo Nation, Arizona, New Mexico, & Utah

Greenwood, Tami Lynette, East Central University, Choctaw Nation of Oklahoma

Grey, Michael, University of New Mexico, Navajo Nation, Arizona, New Mexico, & Utah

Groten, Eric Dartanium, University of New Mexico-Albuquerque, Navajo Nation, Arizona, New Mexico, & Utah

Gust, Kateri Lyn, Montana State University, School of Nursing, Crow Tribe of Montana

Guy, Melissa, University of Colorado, Health Science Center, Navajo Nation, Arizona, New Mexico, & Utah

Haddox, Natalie Rose, Stanford University, Cherokee Nation, Oklahoma

Hall, Megan Sue, University of Oklahoma Health Science Center, Choctaw Nation of Oklahoma

Hall, Sheila Marie, Loyola College, Minnesota Chippewa Tribe, Minnesota (White Earth Band)

Hamby, Kenneth Jerome, Kirksville College of Osteopathic Medicine, Cherokee Nation, Oklahoma

Hammons, Tracie Janene, Connors State College, Cherokee Nation, Oklahoma

Harjo, Sheila Renna, East Central Oklahoma State University, Santee Sioux Nation, Nebraska

Harker, Erica Michelle, University of New Mexico, College of Pharmacy, Zuni Tribe of the Zuni Reservation, New Mexico

Harrington, Latoya Ann, University of New Mexico, Navajo Nation, Arizona, New Mexico, & Utah

Harris, Elizabeth Kate, Oklahoma State University, College of Osteopathic Medicine, Cherokee Nation, Oklahoma

Harris, Lynn Marie, North Carolina State University, Lumbee Tribe of North Carolina

Harrison, Geniel, University of North Dakota, Assiniboine & Sioux Tribes of the Fort Peck Indian Reservation, Montana

Harrison, Gilbert, University of New Mexico-Albuquerque, Navajo Nation, Arizona, New Mexico, & Utah

Harrison, Lisa Lizette, University of Wisconsin, Stevens Point, Ho-Chunk Nation of Wisconsin

Hass, Melisa Jane, Rogers State College, Cherokee Nation, Oklahoma

Hassen, Kathleen Lois, Kalamazoo Valley Community College, Sault St. Marie Tribe of Chippewa Indians of Michigan

Hawley, Edward Carl, Montana State University-Bozeman, Fort Belknap Indian Community of the Fort Belknap Reservation of Montana

Hayes, Deandra Brooke, Northeastern State University, Cherokee Nation, Oklahoma

Headdress, Gale Crystal, Montana State University-Northern, Assiniboine & Sioux Tribes of the Fort Peck Indian Reservation, Montana

Henderson, Michelle Lynn, University of Texas, Navajo Nation, Arizona, New Mexico, & Utah

Henson, Mike Allen, University of Oklahoma, Health Science Center, Comanche Nation, Oklahoma

Herder, Katrina Joy, Arizona State University, Navajo Nation, Arizona, New Mexico, & Utah

Hick, Carrie, University of New Mexico, College of Pharmacy, Navajo Nation, Arizona, New Mexico, & Utah

Hicklin, Cheryl, Winston-Salem State University, Seneca Nation of New York

Hicks, Tana Lee, Oklahoma Baptist University, Seminole Nation of Oklahoma

Holland, Toni Jean, Georgia Perimeter College, Fort Belknap Indian Community of the Fort Belknap Reservation of Montana

Hollow-Lee, Collette Caroline, Heritage College, Confederated Tribes of the Colville Reservation, Washington

Holman, Colin Justin, University of Oklahoma, Chickasaw Nation, Oklahoma

Hopkins, Delbert Samuel, University of North Dakota, Sisseton-Wahpeton Sioux Tribe of the Lake Traverse Reservation, South Dakota

Houle, Jay Powell, Montana State University, Sisseton-Wahpeton Sioux Tribe of the Lake Traverse Reservation, South Dakota

Houston, Lindsay Nicole, Northeastern State University, Cherokee Nation, Oklahoma

Howell, Jesse Ray, University of Central Oklahoma, Choctaw Nation of Oklahoma

Howeya, Lori Ann, University of New Mexico, Pueblo of Acoma, New Mexico

Hubbell, Nicholl Kristen, Arizona State University, Navajo Nation, Arizona, New Mexico, & Utah

Hubbell, Rochelle Lynne, University of Arizona, San Carlos Apache Tribe of the San Carlos Reservation, Arizona

Huerth, Benjamin Walter, University of Vermont, College of Medicine, Winnebago Tribe of Nebraska

Hulsey, Heidi Lynne, Portland Community College, Lummi Tribe of the Lummi Reservation, Washington

Humphreys, Christina Lilly, University of New Mexico-Albuquerque, Navajo Nation, Arizona, New Mexico, & Utah

Hunt, Matthew Hensdale, North Carolina State University, Lumbee Tribe of North Carolina

Hunter, Misty Rae, South Dakota State University, Oglala Sioux Tribe of the Pine Ridge Reservation, South Dakota

Hyatt, Jacqueline Brooke, University of Oklahoma, Muscogee (Creek) Nation, Oklahoma

Hyden, Andreana Dee, Grand Canyon College, Navajo Nation, Arizona, New Mexico, & Utah

Inlow, Aaron Dewayne, Oklahoma State University, Cherokee Nation, Oklahoma

Jackson, Candy Lou, Idaho State University, Bad River Band of the Lake Superior Tribe of Chippewa Indians of the Bad River Reservation, Wisconsin

Jackson, Gillian Joseph, California State University, Pinoleville Rancheria of Pomo Indians of California

Jackson, Melissa Sue, Northeastern Oklahoma A&M College, Eastern Shawnee Tribe of Oklahoma

James, Darrel Deon, Mountain View College, Choctaw Nation of Oklahoma

James, Jessica Natasha, Northern Arizona University, Navajo Nation, Arizona, New Mexico, & Utah

James, Wendi Lee Ann, Southwestern Oklahoma State University, Choctaw Nation of Oklahoma

Janis, Fawn Renee, Ogalala Lakota College, Rosebud Sioux Tribe of the Rosebud Indian Reservation, South Dakota

Jefferson, Deloris Ann, Murray State College, Chickasaw Nation, Oklahoma

Jefferson, Natalie Ruth, University of Kansas, School of Social Welfare, Choctaw Nation of Oklahoma

Jemewouk, Jeanne M., University of Alaska, School of Nursing, Native Village of Elim

Jensen, Janelle Blake, University of Arizona, Navajo Nation, Arizona, New Mexico, & Utah

Joe, Felma Marie, Arizona State University, Navajo Nation, Arizona, New Mexico, & Utah

Joe, John, Gateway Community College, Navajo Nation, Arizona, New Mexico, & Utah

Johnson, Elizabeth Jane, Central Oregon Community College, Confederated Tribes of the Warm Springs Reservation of Oregon

Johnson, Gini Azure, University of New Mexico-Albuquerque, Assiniboine & Sioux Tribes of the Fort Peck Indian Reservation, Montana

Johnson, Joyce-Melvina, Northeastern State University, Cherokee Nation, Oklahoma

Johnson, Kimberlee Jo, East Central University, Chickasaw Nation, Oklahoma

Johnson, Lincoln Scott, Northland Pioneer College, Navajo Nation, Arizona, New Mexico, & Utah

Johnson, Melanie Noelle Pearl, University of Alaska, Orutsararmuit Native Village

Johnson, Yolanda, University of New Mexico-Albuquerque, Navajo Nation, Arizona, New Mexico, & Utah

Joice, Kara Lynn, University of Kansas, Cherokee Nation, Oklahoma

Jones, Jodi Michele, University of Oklahoma, Health Science Center, Pawnee Nation of Oklahoma

Jones, Julia M., Northern Arizona University, Navajo Nation, Arizona, New Mexico, & Utah

Joseph, Ruth, Arizona State University, Navajo Nation, Arizona, New Mexico, & Utah

Julian, Serena Yazzie, University of New Mexico, College of Pharmacy, Navajo Nation, Arizona, New Mexico, & Utah

Kanuho, Daryl, Arizona State University, Navajo Nation, Arizona, New Mexico, & Utah

Kardonsky, Kimberly Jay, Medical College of Wisconsin, Jamestown S'klallam Tribe of Washington

Karlin, Emilie Owens, Seattle Pacific College, Cherokee Nation, Oklahoma

Keel, Andrea Lynn, University of Oklahoma, Chickasaw Nation, Oklahoma

Keener, Brandy Michelle, Oklahoma State University, Cherokee Nation, Oklahoma

Keepseagle, Richard Joseph, Bismark State College, Standing Rock Sioux Tribe of North & South Dakota

Kelley, Ralph Zane, University Health Sciences College of Osteopathic Medicine, Cherokee Nation, Oklahoma

Kelliher, Allison Miranda, University of Washington, Nome Eskimo Community

Keplin, Angela Ann, University of North Dakota, Turtle Mountain Band of Chippewa Indians of North Dakota

Kessler, Jill Daye, University of Minnesota, Cheyenne River Sioux Tribe of the Cheyenne River Reservation, South Dakota

Ketcher, Jeremy Wayne, Connors State College, Cherokee Nation, Oklahoma

Kewenvoyouma, Vachel Rebecca, Yavapai College, Navajo Nation, Arizona, New Mexico, & Utah

Kickingbird, Lauren Marie, University of Central Oklahoma, Kickapoo Tribe of Indians of the Kickapoo Reservation in Kansas

King, Taleah Rae, Langston University, Choctaw Nation of Oklahoma

Kinlecheenie, Orlinda Lou, Northern Arizona University, Navajo Nation, Arizona, New Mexico, & Utah

Kinney, Sahar Amelia, Tufts University, Turtle Mountain Band of Chippewa Indians of North Dakota

Kirk, Brant Evan, Oregon Institute of Technology, Klamath Indian Tribe of Oregon

Kirk, John Vincent, Oklahoma State University, College of Osteopathic Medicine, Cherokee Nation, Oklahoma

Kramer, Erin Lea, University of Oklahoma, Cherokee Nation, Oklahoma

Lafromboise, Sandy Marie, Minot State University, Turtle Mountain Band of Chippewa Indians of North Dakota

Landers, Joseph Henry, University of Oklahoma, Muscogee (Creek) Nation, Oklahoma

Lang, Sharon W., Northern Arizona University, Navajo Nation, Arizona, New Mexico, & Utah

Lashley, Nathan James, Chicago Medical School, Scholl College of Podiatric Medicine, Cherokee Nation, Oklahoma

Laurence, Kami Lynn, University of New Mexico-Albuquerque, Navajo Nation, Arizona, New Mexico, & Utah

Lawrence, Gary Lynn, Northeastern State University, Choctaw Nation of Oklahoma

Lay, Pamela Christine, University of Phoenix, Muscogee (Creek) Nation, Oklahoma

Leach, Lisammechelle, Connors State College, Cherokee Nation, Oklahoma

Leader Charge, Lila Rose, Ogalala Lakota College, Rosebud Sioux Tribe of the Rosebud Indian Reservation, South Dakota

Lee, Calbert Aaron, University of New Mexico-Albuquerque, Navajo Nation, Arizona, New Mexico, & Utah

Lee, Cheryl Lynn, University of New Mexico, Navajo Nation, Arizona, New Mexico, & Utah

Lee, Colleen Linda, Northern Arizona University, Navajo Nation, Arizona, New Mexico, & Utah

Leekity, Marilyn Kelley, University of New Mexico-Gallup, Navajo Nation, Arizona, New Mexico, & Utah

Leemhuis, Stephanie Brook, University of Oklahoma, Cherokee Nation, Oklahoma

Legarde, Victoria Leann, Gonzaga University, Arapahoe Tribe of the Wind River Reservation, Wyoming

Leisholmn, Jody Janiece, University of Washington, Metlakatla Indian Community, Annette Island Reserve

Lemas, Dominick Joseph, University of Vermont—Burlington, Citizen Potawatomi Nation, Oklahoma

Lesansee, Amanda Gayle, University of New Mexico, Zuni Tribe of the Zuni Reservation, New Mexico

Lessert, Amanda Kaye, Creighton University, Oglala Sioux Tribe of the Pine Ridge Reservation, South Dakota

Lewelling, Brian Lynn, Tulane University, Health Science Center, Cherokee Nation, Oklahoma

Limpy, Cheyenne Rose, Montana State University, School of Nursing, Northern Cheyenne Tribe of the Northern Cheyenne Indian Reservation, Montana

Litfin-Salt, Miriam Fae, Kansas State University, Navajo Nation, Arizona, New Mexico, & Utah

Lomay, Vicky Tsinnijinnie, Arizona State University, Navajo Nation, Arizona, New Mexico, & Utah

Long, Christina Marie, University of South Dakota, Lower Brule Sioux Tribe of the Lower Brule Reservation, South Dakota

Longhorn, Kaselyn Diane, East Central University, Absentee-Shawnee Tribe of Indians of Oklahoma

Longie, Michelle Renee, University of North Dakota, Turtle Mountain Band of Chippewa Indians of North Dakota

Looney, Joshua Carson, University of Oklahoma Dental School, Cherokee Nation, Oklahoma

Lopez, Candace Erin, University of New Mexico-Albuquerque, Navajo Nation, Arizona, New Mexico, & Utah

Lopez, Matthew Adam, Kansas State University, Walker River Paiute Tribe of the Walker River Reservation, Nevada

Lowery, Brad Elliott, North Carolina State University, Lumbee Tribe of North Carolina

Luedecke, James Anthony, University of Arkansas, Cherokee Nation, Oklahoma

Lujan, Erica Leanne, University of New Mexico, College of Pharmacy, Pueblo of Isleta, New Mexico

Madden, Donna Rose, Florida Hospital, College of Health Sciences, Choctaw Nation of Oklahoma

Makai, Myra Demetria, University of New Mexico, Gila River Indian Community of the Gila River Indian Reservation, Arizona

Malemute, Charlene Louise, Washington State University, Alaska Native

Maloney, Violet Spring, Northern Arizona University, Navajo Nation, Arizona, New Mexico, & Utah

Marshall, Kristian Evan, Northeastern State University, Cherokee Nation, Oklahoma

Martin, Carmelita A., University of New Mexico-Albuquerque, Navajo Nation, Arizona, New Mexico, & Utah

Martinez, Alicia Rose, University of North Dakota, Yurok Tribe of the Yurok Reservation, California

Martinez, Kimberly Ann, Northeastern Oklahoma A&M College, Eastern Shawnee Tribe of Oklahoma

Martinez, Leah M., University of New Mexico-Albuquerque, Pueblo of Acoma, New Mexico

Martinez, Loretta Ann, University of Denver, School of Social Work, Navajo Nation, Arizona, New Mexico, & Utah

Mason, Laquita Joy, University of Montana, School of Pharmacy, Three Affiliated Tribes of the Fort Berthold Reservation, North Dakota

Matt, Georgia Lee, Utah State University, Blackfeet Tribe of the Blackfeet Indian Reservation of Montana

Maxon, Jeff Allen, North Dakota State University, Cheyenne River Sioux Tribe of the Cheyenne River Reservation, South Dakota

May, Katie Lynn, University of Oklahoma, Cherokee Nation, Oklahoma

Mayes, Nicole Rachel, University of Oklahoma, Cherokee Nation, Oklahoma

McCabe, Devon Aurora, Northern Arizona University, Navajo Nation, Arizona, New Mexico, & Utah

McCorkle, Cody W., University of Arkansas-Fayetteville, Citizen Potawatomi Nation, Oklahoma

McGeshick, Cole David, Montana State University, Sokaogon Chippewa Community, Wisconsin

McGhee, Julie Lynette, University of Oklahoma, Health Science Center, Poarch Band of Creek Indians of Alabama

McGilbary, Kristie Rae, University of Oklahoma, Health Science Center, Kiowa Indian Tribe of Oklahoma

McGlothin, Travis Michael, Harvard Medical School, Pueblo of Laguna, New Mexico

McKerry, Jason Amel, University of Arizona, College of Medicine, Navajo Nation, Arizona, New Mexico, & Utah

McLain, Stefanie Jeanne, Oklahoma State University, Cherokee Nation, Oklahoma

McNeal, Rebecca Lynne, University of Oklahoma, Health Science Center, Choctaw Nation of Oklahoma

Meeks, Alicia Ann, East Central State University, Chickasaw Nation, Oklahoma

Meeks, Bridget Mae, University of Montana, Confederated Salish & Kootenai Tribes of the Flathead Reservation, Montana

Meisenheimer, Rae Ann, Rogers State College, Cherokee Nation, Oklahoma

Melkus, Edwina Mae, Montana State University School of Nursing, Crow Tribe of Montana

Mellon, Travis James, University of the Health Sciences College, Pueblo of Zia, New Mexico

Menka, Nazune Meega, Santa Monica College, Koyukuk Native Village

Merrell, Jonathan, Bartlesville Wesleyan College, Cherokee Nation, Oklahoma

Miller, Carl Eugene, Chicago Medical School, Scholl College of Podiatric Medicine, Muscogee (Creek) Nation, Oklahoma

Miller, Jacklyn Jean, University of North Dakota, Oglala Sioux Tribe of the Pine Ridge Reservation, South Dakota

Miller, Michella Lynn, Connors State College, Cherokee Nation, Oklahoma

Miller, Priscilla Jean, University of Alaska, Agdaagux Tribe of King Cove

Mittelstedt, Richard L., Idaho State University, Shoshone-Bannock Tribes of the Fort Hall Reservation of Idaho

Monette, Eugene Louis, University of North Dakota, Turtle Mountain Band of Chippewa Indians of North Dakota

Moore, Anna Rose, University of Alaska, School of Nursing, Native Village of Elim

Moran, Bradley Alan, University of Montana, School of Pharmacy, Turtle Mountain Band of Chippewa Indians of North Dakota

Morgan, Heidi Elizabeth, Arizona School of Health Sciences, Muscogee (Creek) Nation, Oklahoma

Morin, Georgia Maria, University of North Dakota, Turtle Mountain Band of Chippewa Indians of North Dakota

Morin, Rebecca Inez, Idaho State University, Arapahoe Tribe of the Wind River Reservation, Wyoming

Morris, Winifred, University of New Mexico-Gallup, Navajo Nation, Arizona, New Mexico, & Utah

Morrison, Clint Justin, University of Oklahoma, Choctaw Nation of Oklahoma

Morrison, Gerlinde Maria, University of Montana, Crow Tribe of Montana

Mousseau, Francine Louise, University of South Dakota, Oglala Sioux Tribe of the Pine Ridge Reservation, South Dakota

Murphy, Brandy Fay, University of Nevada-Las Vegas, Houlton Band of Maliseet Indians of Maine

Murray, Ais Kerry William, University of Colorado, Shoshone Tribe of the Wind River Reservation, Wyoming

Murray, Carl Arthur, University of Oklahoma, Health Science Center, Choctaw Nation of Oklahoma

Muskett, Eunice Annazbah, University of New Mexico, Navajo Nation, Arizona, New Mexico, & Utah

Nadeau, Shawn Rochelle, Viterbo College, Turtle Mountain Band of Chippewa Indians of North Dakota

Nahno-Kerchee, Walter Jay, University of Oklahoma, Health Science Center, Comanche Nation, Oklahoma

Nanez, Jennifer Sims, University of New Mexico, Pueblo of Acoma, New Mexico

Nephew, Lesley Ellen, SUNY at Buffalo School of Social Work, Seneca Nation of New York

Nicholson, Kasey Joseph, Montana State University, Fort Belknap Indian Community of the Fort Belknap Reservation of Montana

Nicks, Deanna Marie, Pima Medical Institute—Mesa, Hopi Tribe of Arizona

Nidiffer-Shelor, Amber Lynn, University of Oklahoma, Health Science Center, Cherokee Nation, Oklahoma

Nilchee, Gregory Hashke Yitahoogal, University of New Mexico-Albuquerque, Navajo Nation, Arizona, New Mexico, & Utah

Nimsey, Dallas Micah, Southwestern Oklahoma State University, Kiowa Indian Tribe of Oklahoma

Norton, Elizabeth Marie, Eastern Oregon University, Confederated Tribes of the Siletz Reservation, Oregon

O'Neal, Jaime Diane, Northern State University, Cheyenne River Sioux Tribe of the Cheyenne River Reservation, South Dakota

Odaye, Deena May, Grand Canyon College, Reno-Sparks Indian Colony, Nevada

Old Elk, Georgianna W., American University, Assiniboine & Sioux Tribes of the Fort Peck Indian Reservation, Montana

Oldacre, Angela Marie, University of Oklahoma, Health Science Center, Cherokee Nation, Oklahoma

Olic, Latona Michelle, University of Wyoming, School of Pharmacy, Oglala Sioux Tribe of the Pine Ridge Reservation, South Dakota

Oliver, Jody Ann, Boise State University, Shoshone-Bannock Tribes of the Fort Hall Reservation of Idaho

Oosahwe, Christen Brook, Bacone College, Cherokee Nation, Oklahoma

Ortiz, Lisa Dianne, Wayne State University, School of Medicine, Cherokee Nation, Oklahoma

Osborn, Katie D., Southeastern Oklahoma State University, Cherokee Nation, Oklahoma

Owens, Johnnie Louis, Kirksville College of Osteopathic Medicine, Choctaw Nation of Oklahoma

Oxford, Dustin Joseph, Northeastern State University, Cherokee Nation, Oklahoma

Pappan, Cynthia Rae, Creighton University, School of Pharmacy, Turtle Mountain Band of Chippewa Indians of North Dakota

Parker, Mahate Ann, East Central University, Comanche Nation, Oklahoma

Parker, Rahnia Jean, University of Alaska System, Native Village of Kipnuk

Paul, Kimberly Lynn, University of Montana, Blackfeet Tribe of the Blackfeet Indian Reservation of Montana

Pecoss, Susanna Elizabeth, University of New Mexico-Albuquerque, Pueblo of Cochiti, New Mexico

Peltier, Heather, University of North Dakota, Turtle Mountain Band of Chippewa Indians of North Dakota

Peone-Haynes, Amanda Lee, American Health Information Management Association, Confederated Salish & Kootenai of the Flathead Reservation, Montana

Peratrovich, Valene Maria, Oregon State University, Alaska Native

Pereira, Christina Charlene Bell, University of Arizona, Tohono O'odham Nation of Arizona

Pete, Lyle Henry, Mesa Community College, Navajo Nation, Arizona, New Mexico, & Utah

Peterman, Sawyer, Dine College, Navajo Nation, Arizona, New Mexico, & Utah

Phillips, Cara Leigh, University of Arizona, Navajo Nation, Arizona, New Mexico, & Utah

Phillips, Crystal Lea, University of Oklahoma, School of Dentistry, Cherokee Nation, Oklahoma

Platta, Veralyn, New Mexico State University, Mescalero Apache Tribe of the Mescalero Reservation, New Mexico

Pleasants, Tina Marie, Washington State University, Central Council of Tlingit & Haida Indian Tribes

Pletnikoff, Elise Marie, Carroll College, Alaska Native

Poe, Jill R., Northeastern State University, Osage Tribe, Oklahoma

Power, Jacob Alan, Midwestern University, Cherokee Nation, Oklahoma

Price, Aaron Joseph, University of New Mexico-Albuquerque, Navajo Nation, Arizona, New Mexico, & Utah

Proctor, Andrea Nicole, East Central State University, Muscogee (Creek) Nation, Oklahoma

Ramone, Bernadette Nina, University of New Mexico-Albuquerque, Navajo Nation, Arizona, New Mexico, & Utah

Rasor, Joseph James, Midwestern University, Navajo Nation, Arizona, New Mexico, & Utah

Razote, Antoinette Jo, Central Washington University, Sisseton-Wahpeton Oyate of the Lake Traverse Reservation, South Dakota

Redcorn, Moira Ambrose, University of Oklahoma, Osage Tribe, Oklahoma

Redsteer, Sandra Jeanette, Northern Arizona University, Navajo Nation, Arizona, New Mexico, & Utah

Reising, Kotanee Tenas, Medical College of Wisconsin, Menominee Indian Tribe of Wisconsin

Renfrow, Miranda Kirstin, Oklahoma State University, College of Osteopathic Medicine, Choctaw Nation of Oklahoma

Rice, Lily A., University of North Dakota, Prairie Band of Potawatomi Nation, Kansas

Richan, Eilene Faye, Turtle Mountain Community College, Turtle Mountain Band of Chippewa Indians of North Dakota

Richards, Spencer L., University of North Dakota, Oglala Sioux Tribe of the Pine Ridge Reservation, South Dakota

Richardson, Charlene Martha, South Dakota State University, Oglala Sioux Tribe of the Pine Ridge Reservation, South Dakota

Ringer-Knudson, Nicolette Jean, University of Minnesota, Sisseton-Wahpeton Oyate of the Lake Traverse Reservation, South Dakota

Robideau, Eileen Catherine, University of Alaska, Nenana Native Association

Robinson, Charlene, University of Arizona, College of Medicine, Navajo Nation, Arizona, New Mexico, & Utah

Robison-Rivera, Kristie Marie, Southwestern Oklahoma State University, Apache Tribe of Oklahoma

Rogers, Brandon Scott, University of Oklahoma, School of Dentistry, Cherokee Nation, Oklahoma

Romero, Teresa Beth, University of North Dakota, Turtle Mountain Band of Chippewa Indians of North Dakota

Roselius, Kassi, Bethany Nazarene College, Citizen Potawatomi Nation, Oklahoma

Rouillard, Allison Marie, University of North Dakota, Sisseton-Wahpeton Oyate of the Lake Traverse Reservation, South Dakota

Rouse, Brant Philip, University of Oklahoma Dental School, Cherokee Nation, Oklahoma

Rowell, Eric Habenachi, Eastern Oklahoma State College, Choctaw Nation of Oklahoma

Ruleford, Miranda Louisa, University of Tulsa, Cherokee Nation, Oklahoma

Sahmaunt, Marcia Ann, University of Oklahoma, Kiowa Indian Tribe of Oklahoma

Salois-Albert, Shaunda Marie, Salish Kootenai College, Confederated Salish & Kootenai of the Flathead Reservation, Montana

Sanders, Michael Shawn, University of Oklahoma, Health Science Center, Cherokee Nation, Oklahoma

Sanderson, Kendra Marie, University of Arizona, Navajo Nation, Arizona, New Mexico, & Utah

Sawney, Laura Renee, Northeastern State University, Cherokee Nation, Oklahoma

Schmidt, Erin Michelle, University of Oklahoma Dental School, Muscogee (Creek) Nation, Oklahoma

Scott, Jessica Robin, University of Washington, School of Medicine, Central Council of Tlingit & Haida Indian Tribes

Scott, Steven Ray, University of Arizona, College of Medicine, Cherokee Nation, Oklahoma

Seyler, Debra Jean, Northern Arizona University, Confederated Salish & Kootenai Tribes of the Flathead Reservation, Montana

Shangin, Nicole Danielle, Seattle Pacific University, Ivanoff Bay Village

Shawano, Tina Marie, University of Wisconsin, Menominee Indian Tribe of Wisconsin

Shelley, Amanda Elaine, Bacone College, Cherokee Nation, Oklahoma

Shepard, Cristopher Allan Joseph, University of Nevada, Las Vegas School of Dentistry, Santee Sioux Nation, Nebraska

Shinn-Jones, Darcy Marie, Northeastern State University, Cherokee Nation, Oklahoma

Show, Jennifer Aurice, Montana State University, School of Nursing, Fort Belknap Indian Community of the Fort Belknap Reservation of Montana

Show, Michelle, University of Washington, Fort Belknap Indian Community of the Fort Belknap Reservation of Montana

Silvers, Kristin Gail, University of New Mexico-Albuquerque, Navajo Nation, Arizona, New Mexico, & Utah

Sirany, Anne-Marie Elizabeth, Boston University, Minnesota Chippewa Tribe, Minnesota (White Earth Band)

Sirmans, Jayna Deneice, University of Houston, College of Optometry, Choctaw Nation of Oklahoma

Sixkiller, Cheryl Lynn, Northeastern State University, Cherokee Nation, Oklahoma

Skaggs, Amanda Marie, Southwestern Oklahoma State University, Cherokee Nation, Oklahoma

Skeet, Johnnette, University of New Mexico, Navajo Nation, Arizona, New Mexico, & Utah

Slyker, Amanda Coleen, Macalester College, Blackfeet Tribe of the Blackfeet Indian Reservation of Montana

Smith, Dallas Rockford, Midwestern University, Navajo Nation, Arizona, New Mexico, & Utah

Smith, Eliza-Mae C., Bacone College, United Keetoowah Band of Cherokee Indians of Oklahoma

Smith, Janiece Rene, University of Arizona, Navajo Nation, Arizona, New Mexico, & Utah

Smith, Seneca Martin, University of Oklahoma, Health Science Center, Muscogee (Creek) Nation, Oklahoma

Spears, Raina Ann, Oklahoma State University, Choctaw Nation of Oklahoma

Spencer, Amanda Stephanie, Bacone College, Cherokee Nation, Oklahoma

Spencer, Anne P., University of New Mexico-Gallup, Navajo Nation, Arizona, New Mexico, & Utah

Spoon, Shawna Francene, University of Oklahoma, Sac & Fox Nation, Oklahoma

St Claire, Billie Jo, North Dakota State University, Turtle Mountain Band of Chippewa Indians of North Dakota

Starr, Daniel Curtis, University of North Dakota, Three Affiliated Tribes of the Fort Berthold Reservation, North Dakota

Stewart, Rodney Shane, Rogers State College, Cherokee Nation, Oklahoma

Still, Melissa Brook, University of Central Arkansas, Cherokee Nation, Oklahoma

Stone, Jennifer June, Northeastern State University, Choctaw Nation of Oklahoma

Stone, Meghan Brooke, Southwestern Oklahoma State University, Cherokee Nation, Oklahoma

Stump-King, Glynna Marie, University of Phoenix, Chippewa-Cree Indians of the Rocky Boy's Reservation, Montana

Sun Rhodes, Neil Altair, Oregon Health Sciences University, Arapahoe Tribe of the Wind River Reservation, Wyoming

Swank, Selma Jean, Salish Kootenai College, Northern Cheyenne Tribe of the Northern Cheyenne Indian Reservation, Montana

Sweeney, Michael Aaron, Brigham Young University, Choctaw Nation of Oklahoma

Tapahe, Sharon Jean, Brigham Young University, Navajo Nation, Arizona, New Mexico, & Utah

Tapp, Jamie Lynn, Southwestern Oklahoma State University, Chickasaw Nation, Oklahoma

Tawyesva, Yolanda Lei, Northland Pioneer College, Hopi Tribe of Arizona

Taylor, Jennifer Elise, Portland State University, Pit River Tribe, California (XL Ranch)

Ten Fingers, Javan Anthony, John F. Kennedy University, Oglala Sioux Tribe of the Pine Ridge Reservation, South Dakota

Thomas, Curtiss Lee, Northwest Technical College, Turtle Mountain Band of Chippewa Indians of North Dakota

Thomas, Jacob Frederick, Concordia College, Turtle Mountain Band of Chippewa Indians of North Dakota

Thompson, Benjamin Campbell, Northeastern State University, Cherokee Nation, Oklahoma

Thompson, Jennifer Lynn, Western Carolina University, Eastern Band of Cherokee Indians of North Carolina

Thompson, Lula Morris, Northland Pioneer College, Navajo Nation, Arizona, New Mexico, & Utah

Thompson, Paula Gail, Gateway Community College, Navajo Nation, Arizona, New Mexico, & Utah

Thompson, Stacey Marie, University of New Mexico, College of Pharmacy, Navajo Nation, Arizona, New Mexico, & Utah

Thompson, Toshina Krystal, Fort Lewis College, Navajo Nation, Arizona, New Mexico, & Utah

Thompson, Weston Dewey, Southwestern Oklahoma State University, Cherokee Nation, Oklahoma

Tiger, Brandy Susan, Arizona School of Health Sciences, Muscogee (Creek) Nation, Oklahoma

Tillman, Amy Beth, University of Central Oklahoma, Choctaw Nation of Oklahoma

Toadlena, Evelyn, Western New Mexico University, Navajo Nation, Arizona, New Mexico, & Utah

Todicheeney, Sharon Ann, Northern Arizona University, Navajo Nation, Arizona, New Mexico, & Utah

Tom, Ardith Renee, New Mexico State University, Navajo Nation, Arizona, New Mexico, & Utah

Tom, Jennifer Michell, Hunter College, Choctaw Nation of Oklahoma

Torralba, Vernon Charles, College of St. Scholastica, Crow Tribe of Montana

Torres, Michelle Lynn, Heritage College, Chippewa-Cree Indians of the Rocky Boy's Reservation, Montana

Townsend, Travis J., University of New Mexico-Albuquerque, Pueblo of Acoma, New Mexico

Toya, Alleyne N., TVI Community College, Pueblo of Laguna, New Mexico

Trombley, Diana Lynn, Salish Kootenai College, Blackfeet Tribe of the Blackfeet Indian Reservation of Montana

Tsethlikai, Tami-Denice, University of New Mexico-Albuquerque, Zuni Tribe of the Zuni Reservation, New Mexico

Tso, Jennifer Lynn, University of Washington, Navajo Nation, Arizona, New Mexico, & Utah

Tso, Vera Jane, University of New Mexico-Gallup, Navajo Nation, Arizona, New Mexico, & Utah

Tsosie, Roberta Ann, Long Technical College, Navajo Nation, Arizona, New Mexico, & Utah

Turney, Jarett Brandon, Marquette University Dental School, Cherokee Nation, Oklahoma

Tutt, Jaclyn Cindy, Phoenix College, Navajo Nation, Arizona, New Mexico, & Utah

Tveit, Adrienne Hilda, Washington State University College, Central Council of Tlingit & Haida Indian Tribes

Two Bulls, Tanya Jolette, Ogalala Lakota College, Standing Rock Sioux Tribe of North & South Dakota

Tyler, Holly Kristina, University of South Carolina, Lumbee Tribe of North Carolina

Uhl, Sarah Elizabeth, Baylor University, Cherokee Nation, Oklahoma

Ulmer, Chanda Gail, Humboldt State University, Yurok Tribe of the Yurok Reservation, California

Underwood, Eugenia Raeann, East Central Oklahoma State University, Mississippi Band of Choctaw Indians, Mississippi

Valdo, Gerald David, Colorado State University, Pueblo of Acoma, New Mexico

Vallie-Merriefield, Pamela Lynn, University of North Dakota, Turtle Mountain Band of Chippewa Indians of North Dakota

Van Winkle, Tom R., Trinity Christian College, Navajo Nation, Arizona, New Mexico, & Utah

Vargas, Raquel Ann, University of Texas Medical Branch at Galveston, Choctaw Nation of Oklahoma

Varnell, Cassidy Gertrude, Connors State College, Cherokee Nation, Oklahoma

Vaughn, Ashley Elizabeth, University of Oklahoma, Cherokee Nation, Oklahoma

Velasquez, Mary Christina, Arizona School of Health Sciences, Ute Mountain Tribe of the Ute Mountain Reservation, Colorado, New Mexico, and Utah

Vincent, Terence Justin, Scholl College of Podiatric Medicine, Kiowa Indian Tribe of Oklahoma

Vlasoff, Martha Jay, University of Alaska-Anchorage, Native Village of Eyak (Cordova)

Walker, Jonathan Bayless, Oklahoma State College of Osteopathic Medicine, Choctaw Nation of Oklahoma

Walker, Lindsay Allison, University of North Carolina, Eastern Band of Cherokee Indians of North Carolina

Walker, Patrick Robert, Southwestern Oklahoma State University, Cherokee Nation, Oklahoma

Wallace, Becky Lee, College of St. Catherine, Winnebago Tribe of Nebraska

Wallace, Kacey Leann, Oklahoma State College of Osteopathic Medicine, Choctaw Nation of Oklahoma

Walters, Tamara Renee, University of Alaska, Alaska Native

Ward, Jennifer Elaine, Kirksville College of Osteopathic Medicine, Cherokee Nation, Oklahoma

Ward, Rolanda Reason, University of Alaska-Anchorage, Egegik Village

Warlick, Katie Larue, University of Oklahoma, Cherokee Nation, Oklahoma

Washburn, Kendall Derek, University of Oklahoma, Health Science Center, Kiowa Indian Tribe of Oklahoma

Wasin Zi, Fawn Catherine, University of Maryland, Standing Rock Sioux Tribe of North & South Dakota

Watts, Candace Summerz, Sweet Briar College, Navajo Nation, Arizona, New Mexico, & Utah

Werner, Gwenlynn Laine, Arizona State University, Navajo Nation, Arizona, New Mexico, & Utah

West, Jonathan Lee, Northeastern State University, Cherokee Nation, Oklahoma

White, Erin Janet, University of North Carolina, Lumbee Tribe of North Carolina

White, Karen Ann, Apollo College, Navajo Nation, Arizona, New Mexico, & Utah

Whitehair, Orlantha, University of Arizona College of Medicine, Navajo Nation, Arizona, New Mexico, & Utah

Whitehair, Robbie Gayle, University of New Mexico, Navajo Nation, Arizona, New Mexico, & Utah

Whitehorse, Veronica Ann, San Diego State University, Navajo Nation, Arizona, New Mexico, & Utah

Widmyer, Janet May, University of Alaska, Ketchikan Indian Corporation

Wilbourn, Crystal Lea, Belmont University, Cherokee Nation, Oklahoma

Wiley, Matthew Hallett, East Central University, Muscogee (Creek) Nation, Oklahoma

Wilkerson, Thaddus Donavan, University of New Mexico, College of Pharmacy, Navajo Nation, Arizona, New Mexico, & Utah

Willcuts, Peggy Sue, South Dakota State University College, Rosebud Sioux Tribe of the Rosebud Indian Reservation, South Dakota

Williams Burns, Amanda Kate, Southwestern Oklahoma State University, Muscogee (Creek) Nation, Oklahoma

Williams, Alice, Northland Pioneer College, Navajo Nation, Arizona, New Mexico, & Utah

Williams, Clarrisa, University of Arizona, College of Medicine, Navajo Nation, Arizona, New Mexico, & Utah

Williams, Scott Bradley, Northeastern State University, Cherokee Nation, Oklahoma

Wilson, Chase Te, Southeastern Oklahoma State University, Choctaw Nation of Oklahoma

Wilson, Ellen Lucille, University of North Dakota, Three Affiliated Tribes of the Fort Berthold Reservation, North Dakota

Wilson, Kelli Rae Lee, University of New Mexico-Albuquerque, Seminole Nation of Oklahoma

Windham, Tera Beth, Northeastern State University, Cherokee Nation, Oklahoma

Winship, Venita Lynn, Eastern Oklahoma State College, Choctaw Nation of Oklahoma

Winton, Lindsay Dallas, University of Oklahoma, Health Science Center, Cherokee Nation, Oklahoma

Wiseman, Toni Jeanne, Oklahoma City University, Muscogee (Creek) Nation, Oklahoma

Wood, Chad Nathaniel, University of Utah, College of Medicine, Cherokee Nation, Oklahoma

Woodard, David Rush, University of Missouri, Osage Tribe, Oklahoma

Woodruff, Patience M., University of South Dakota, Rosebud Sioux Tribe of the Rosebud Indian Reservation, South Dakota

Woods, Lacy Ann, University of Oklahoma, Health Science Center, Chickasaw Nation, Oklahoma

Worker-Geiger, Shanna Renee, Arizona School of Health Sciences, Navajo Nation, Arizona, New Mexico, & Utah

Yandell, Seth David, University of Texas Medical Branch-Galveston, Choctaw Nation of Oklahoma

Yarbrough, Latasha Renee, Rose State College, Cheyenne-Arapaho Tribes of Oklahoma

Yazzie, Carmelita Jean, University of New Mexico-Gallup, Navajo Nation, Arizona, New Mexico, & Utah

Yazzie, Charisse Lindsey, Arizona State University, Navajo Nation, Arizona, New Mexico, & Utah

Yazzie, Maria, University of New Mexico, College of Pharmacy, Navajo Nation, Arizona, New Mexico, & Utah

Yazzie, Nazhone Paul, University of Arizona College of Medicine, Navajo Nation, Arizona, New Mexico, & Utah

Yazzie, Olivia, Northern Arizona University, Navajo Nation, Arizona, New Mexico, & Utah

Yazzie, Sharon, Northern Arizona University, Navajo Nation, Arizona, New Mexico, & Utah

Yazzie, Shelia Rae, Northern Arizona University, Navajo Nation, Arizona, New Mexico, & Utah

Yazzie, Shihomi Rae, University of New Mexico-Albuquerque, Navajo Nation, Arizona, New Mexico, & Utah

Yazzie, Vangie Mae, University of New Mexico-Albuquerque, Navajo Nation, Arizona, New Mexico, & Utah

Yazzie-Francisco, Myra Lynn, Phoenix College, Navajo Nation, Arizona, New Mexico, & Utah

Yellowhair, Jeannine Ann, New Mexico State University, Navajo Nation, Arizona, New Mexico, & Utah

Yellowhair, Ophelia Ann, University of New Mexico, Navajo Nation, Arizona, New Mexico, & Utah

Yepa, Jason Charles, University of New Mexico-Albuquerque, Navajo Tribe Arizona, New Mexico, & Utah

Young, Sawar Chalutch, University of Washington, Yurok Tribe of the Yurok Reservation, California

Youngblood, Chase Culver, University of Oklahoma, Cherokee Nation, Oklahoma

Zackery, Kathryn Sue, Oklahoma State University, Muscogee (Creek) Nation, Oklahoma

Zah, Angela Marie, University of Colorado, Health Science Center, Oglala Sioux Tribe of the Pine Ridge Reservation, South Dakota

Zahne, Janis Ivy, Arizona State University, Navajo Nation, Arizona, New Mexico, & Utah

Zuni, Angelica Celeste, Fort Lewis College, Pueblo of Isleta, New Mexico

Zunie, Victoria Cassandra, University of New Mexico-Albuquerque, Zuni Tribe of the Zuni Reservation, New Mexico

Zwaryck, Shelby Leona, University of Montana, School of Pharmacy, Chippewa-Cree Indians of the Rocky Boy's Reservation, Montana

Zwaryck, Toni Marie, Salish Kootenai College, Chippewa-Cree Indians of the Rocky Boy's Reservation, Montana

FOR FURTHER INFORMATION CONTACT: The Indian Health Service Scholarship Branch, Twinbrook Metro Plaza, 12300 Twinbrook Parkway, Suite 100, Rockville, Maryland 20852, telephone: (301) 443-6197, fax: (301) 443-6048.

Dated: April 19, 2004.
Charles W. Grim,
Assistant Surgeon General, Director, Indian Health Service.

[FR Doc. 04-9474 Filed 4-26-04; 8:45 am]

BILLING CODE 4160-16-U